DEPARTMENT OF DEFENSE

Office of the Secretary

Renewal of Department of Defense Federal Advisory Committees—Defense Policy Board

AGENCY: Department of Defense (DoD).

ACTION: Renewal of Federal Advisory Committee meeting.

SUMMARY: The DoD is publishing this notice to announce that it is renewing the Defense Policy Board (DPB).

FOR FURTHER INFORMATION CONTACT: Jim Freeman, DoD Advisory Committee Management Officer, 703-692-5952.

SUPPLEMENTARY INFORMATION: The DoD is renewing the DPB in accordance with chapter 10 of title 5, United States Code (U.S.C.) (commonly known as the “Federal Advisory Committee Act” or “FACA”) and 41 CFR 102-3.50(d). The charter and contact information for the DPB's Designated Federal Officer (DFO) are found at https://www.facadatabase.gov/FACA/apex/FACAPublicAgencyNavigation.

The DPB provides the Secretary of Defense and the Deputy Secretary of Defense (“the DoD Appointing Authority”) independent advice and recommendations on matters concerning defense policy and national security issues. Specifically, the DPB will focus on: (a) issues central to strategic DoD planning; (b) policy implications of U.S. force structure and modernization on DoD's ability to execute U.S. defense strategy; (c) U.S. regional defense policies; and (d) other defense policy and national security issues of special interest to the DoD raised by the DoD Appointing Authority, or the Under Secretary of Defense for Policy as the DPB's Sponsor.

The DPB shall be composed of not more than 20 members who have distinguished backgrounds in defense and national security affairs. These members will come from varied backgrounds including prior government or military service, multinational corporations, academia, or other non-government organizations. Individual members will be appointed according to DoD policy and procedures, and serve a term of service of one-to-four years with annual renewals. One member will be appointed as Chair of the DPB. No member, unless approved according to DoD policy and procedures, may serve more than two consecutive terms of service on the DPB, or serve on more than two DoD Federal advisory committees at one time.

Individual members are appointed according to DoD policy and procedures, and serve a term of service of one-to-four years with annual renewals. One member will be appointed as Chair of the DPB. No member, unless approved according to DoD policy and procedures, may serve more than two consecutive terms of service on the DPB, or serve on more than two DoD Federal advisory committees at one time.

DPB members who are not full-time or permanent part-time Federal civilian officers or employees, or active duty members of the Uniformed Services, are appointed as experts or consultants, pursuant to 5 U.S.C. 3109, to serve as special government employee members. DPB members who are full-time or permanent part-time Federal civilian officers or employees, or active duty members of the Uniformed Services are appointed pursuant to 41 CFR 102-3.130(a), to serve as regular government employee members.

All DPB members are appointed to provide advice based on their best judgment without representing any particular point of view and in a manner that is free from conflict of interest. Except for reimbursement of official DPB-related travel and per diem, members serve without compensation.

The public or interested organizations may submit written statements about the DPB's mission and functions. Written statements may be submitted at any time or in response to the stated agenda of planned meeting of the DPB. All written statements shall be submitted to the DFO for the DPB using the link provided in this SUPPLEMENTARY INFORMATION section, and this individual will ensure that the written statements are provided to the membership for their consideration.

Dated: August 24, 2023.
Aaron T. Siegel,
Alternate OSD Federal Register Liaison Officer, Department of Defense.

[FR Doc. 2023-18770 Filed 8-29-23; 8:45 am]

BILLING CODE 5001-06-P